DEPARTMENT OF ENERGY

Federal Energy Regulatory Commission

[Docket No. RP96-359-021]

Transcontinental Gas Pipe Line Corporation; Notice of Negotiated Rate

July 12, 2004.

Take notice that on June 30, 2004, Transcontinental Gas Pipe Line Corporation (Transco) tendered for filing a copy of the executed second amendment to the service agreement with Washington Gas Light Company (WGL) that contains a recalculated negotiated delivery point facilities surcharge (Facilities Surcharge) under Transco's Rate Schedule FT for the costs of the Westmore Road Meter Stations, a delivery point to Washington Gas Light Company (WGL). Transco states that the effective date of this revised facilities surcharge is July 1, 2004.

Transco states that copies of the filing are being mailed to its affected customers and interested State commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-1602 Filed 7-15-04; 8:45 am]

BILLING CODE 6717-01-P